DEPARTMENT OF HEALTH AND HUMAN SERVICES

Administration for Children and Families

Proposed Information Collection Activity; Comment Request

Proposed Projects

Title: Building Strong Families (BSF) Demonstration and Evaluation—Implementation and Impact Study.

OMB No.: New Collection.

Description: This proposed information collection activity is for two types of data collections: (1) Interview and focus group protocols for use with program staff and couples enrolled in BSF programs and (2) a telephone survey to be administered to both partners in couples enrolled in the BSF research sample about 15 mounts after enrollment.

These data collections are a part of the BSF evaluation, which is an important opportunity to learn if well-designed interventions can help low-income couples develop the knowledge and relationship skills that research has shown are associated with healthy marriages. BSF programs will provide instruction and support to improve marriage and relationship skills and enhance couples' understanding of marriage. In addition, BSF programs will provide links to a variety of other services that could help couples sustain a health relationship (e.g., employment assistance). The BSF evaluation uses an experimental design that randomly assigns couples who volunteer to participate in BSF programs to a program or to a control group.

The BSF evaluation has two parts, an implementation study and an impact study. For the implementation study, the BSF evaluation will use the interview and focus-group protocols to document how the programs worked and the experiences of staff and couples enrolled. For the impact study, the BSF evaluation will use telephone surveys to determine whether the BSF programs helped couples form healthier marriages.

Respondents: For the implementation study, respondents will be BSF program managers and staff, couples who participated in the BSF group sessions, and couples who dropped out of the program or never participated in the BSF groups. Information from staff will be obtained in face-to-face interviews. Information from participating couples will be collected in focus groups. Non-participating couples and couples who dropped out of the program will be interviewed by phone. For the impact study, the respondents for the 15-month survey will be all couples in the BSF evaluation. They will be interviewed by telephone. Both types of information collection will take place over about a 24-month period.

Annual Burden Estimates
Instrument | Number of respondents | Number of responses per respondent | Average burden hours per responses | Total burden hours
Implementation Study
Staff interview protocol | 126 | 1 | 1.5 | 189
Focus group protocol | 70 | 1 | 1.5 | 105
Telephone interview protocol (non-participants/drop-outs) | 84 | 1 | .17 | 14
Impact Study
15-month Survey (females) | 1,434 | 1 | .91 | 1,305
15-month Survey (males) | 1,434 | 1 | .83 | 1,190
Estimated Total Annual Burden Hours |  |  |  | 2,803

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447. Attn: ACF Reports Clearance Officer. E-mail address: infocollection@acf.hhs.gov. All requests should be identified by the title of the information collection.

The Department specifically requests comments on: (a) Whether the proposed collection of information is necessary for the proper performance of the functions of the agency, including whether the informtion shall have practical utility; (b) the accuracy of the agency's estimate of the burden of the proposed collection of information; (c) the quality, utility, and clarity of the information to be collected; and (d) ways to minimize the burden of the collection of information on respondents. Consideration will be given to comments and suggestions submitted within 60 days of this publication.

Dated: February 2, 2006.
Robert Sargis,
Reports Clearance Officer.

[FR Doc. 06-1159 Filed 2-7-06; 8:45 am]

BILLING CODE 4184-01-M